DEPARTMENT OF JUSTICE

Drug Enforcement Administration

[Docket No. DEA-410F]

Controlled Substances: 2015 Established Aggregate Production Quotas for Three Temporarily Controlled Synthetic Cannabinoids

AGENCY: Drug Enforcement Administration, Department of Justice.

ACTION: Final order.

SUMMARY: This final order establishes the initial 2015 aggregate production quotas for three temporarily controlled synthetic cannabinoids: N-(1-amino-3-methyl-1-oxobutan-2-yl)-1-(cyclohexylmethyl)-1H-indazole-3-carboxamide (AB-CHMINACA), N-(1-amino-3-methyl-1-oxobutan-2-yl)-1-pentyl-1H-indazole-3-carboxamide (AB-PINACA), and [1-(5-fluoropentyl)-1H-indazol-3-yl](naphthalen-1-yl)methanone (THJ-2201).

DATES: Effective June 17, 2015.

FOR FURTHER INFORMATION CONTACT: John R. Scherbenske, Office of Diversion Control, Drug Enforcement Administration; Mailing Address: 8701 Morrissette Drive, Springfield, Virginia 22152; Telephone: (202) 598-6812.

SUPPLEMENTARY INFORMATION:

Background

Section 306 of the Controlled Substances Act (CSA) (21 U.S.C. 826) requires the Attorney General to establish aggregate production quotas for each basic class of controlled substance listed in schedules I and II and for ephedrine, pseudoephedrine, and phenylpropanolamine. The Attorney General has delegated this authority to the Administrator of the DEA. 28 CFR 0.100(b).

On January 30, 2015, the DEA published in the Federal Register a final order to temporarily place three synthetic cannabinoids, N-(1-amino-3-methyl-1-oxobutan-2-yl)-1-(cyclohexylmethyl)-1H-indazole-3-carboxamide (AB-CHMINACA), N-(1-amino-3-methyl-1-oxobutan-2-yl)-1-pentyl-1H-indazole-3-carboxamide (AB-PINACA), and [1-(5-fluoropentyl)-1H-indazol-3-yl](naphthalen-1-yl)methanone (THJ-2201), into schedule I of the CSA (80 FR 5042), making all regulatory controls pertaining to schedule I controlled substances applicable to AB-CHMINACA, AB-PINACA, and THJ-2201, including the requirement to obtain a manufacturing quota pursuant to 21 CFR part 1303.

The 2015 aggregate production quotas for AB-CHMINACA, AB-PINACA, and THJ-2201 represent those quantities that may be manufactured in the United States in 2015 to provide for the estimated scientific, research, and industrial needs of the United States, lawful export requirements, and the establishment and maintenance of reserve stocks.

On March 20, 2015, the DEA published a notice titled, “Controlled Substances: 2015 Proposed Aggregate Production Quotas for Three Temporarily Controlled Synthetic Cannabinoids” in the Federal Register (80 FR 15034). That notice proposed the 2015 aggregate production quotas for AB-CHMINACA, AB-PINACA, and THJ-2201. Interested persons were invited to comment on or object to the proposed aggregate production quotas for AB-CHMINACA, AB-PINACA, and THJ-2201 on or before April 20, 2015. No comments were received.

Analysis for 2015 Established Aggregate Production Quotas

In determining the 2015 aggregate production quotas for N-(1-amino-3-methyl-1-oxobutan-2-yl)-1-(cyclohexylmethyl)-1H-indazole-3-carboxamide (AB-CHMINACA), N-(1-amino-3-methyl-1-oxobutan-2-yl)-1-pentyl-1H-indazole-3-carboxamide (AB-PINACA), and [1-(5-fluoropentyl)-1H-indazol-3-yl](naphthalen-1-yl)methanone (THJ-2201), the DEA has taken into consideration the factors set forth at 21 CFR 1303.11, pursuant to 21 U.S.C. 826(a), and other relevant factors, including 2015 export requirements, industrial use, applications for quotas, as well as information on research and product development requirements.

Pursuant to 21 U.S.C. 826 and in accordance with 21 CFR 1303.11, the Acting Administrator hereby establishes the 2015 aggregate production quotas for AB-CHMINACA, AB-PINACA, and THJ-2201, expressed in grams of anhydrous acid or base, as follows:

Basic class—schedule I | Established 2015 quota (g)
N-(1-amino-3-methyl-1-oxobutan-2-yl)-1-(cyclohexylmethyl)-1H-indazole-3-carboxamide (AB-CHMINACA) | 15
N-(1-amino-3-methyl-1-oxobutan-2-yl)-1-pentyl-1H-indazole-3-carboxamide (AB-PINACA) | 15
[1-(5-fluoropentyl)-1H-indazol-3-yl](naphthalen-1-yl)methanone (THJ-2201) | 15

In accordance with 21 CFR 1303.13, upon consideration of the relevant factors, the Acting Administrator may adjust the 2015 aggregate production quotas for AB-CHMINACA, AB-PINACA, and THJ-2201 as needed.

Dated: June 11, 2015.
Chuck Rosenberg,
Acting Administrator.

[FR Doc. 2015-14909 Filed 6-16-15; 8:45 am]

BILLING CODE 4410-09-P